FEDERAL COMMUNICATIONS COMMISSION

[OMB 3060-0289, OMB 3060-0331, OMB 3060-0419 and 3060-1045; FRS 16277]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before January 24, 2020. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams, (202) 418-2918.

SUPPLEMENTARY INFORMATION: OMB Control Number: 3060-0289.

Title: Section 76.601, Performance Tests; Section 76.1704, Proof of Performance Test Data; Section 76.1717, Compliance with Technical Standards.

Form Number: N/A.

Type of Review: Revision of a currently approved collection.

Respondents: Business or other for-profit entities, and state, local, or tribal government.

Number of Respondents: 4,085 respondents, 6,433 responses.

Estimated Time per Response: 0.5 to 70 hours.

Frequency of Response: Recordkeeping requirement, Semi-annual and Triennial reporting requirements; Third party disclosure requirement.

Obligation to Respond: Required to obtain or retain benefits. The statutory authority for this collection of information is contained in Sections 4(i) and 624(e) of the Communications Act of 1934, as amended.

Total Annual Burden: 166,405 hours.

Total Annual Cost: None.

Privacy Impact Assessment: No impact(s).

Nature and Extent of Confidentiality: There is no need for confidentiality with this collection of information.

Needs and Uses: The Commission seeks to modify this submission to reflect that the testing required under Section 76.601(b) applies only to cable systems that deliver analog signals, and the cable operator must only test analog channels (see FCC 17-120). We expect that this change will reduce the number of filers associated with this information collection.

OMB Control Number: 3060-0331.

Title: Aeronautical Frequency Notification, FCC Form 321

Form Number: FCC Form 321.

Type of Review: Revision of a currently approved collection.

Respondents: Business and other for-profit entities; not-for-profit institutions.

Number of Respondents: 1,886 respondents, 1,886 responses.

Estimated Time per Response: 0.67 hours.

Frequency of Response: One time and on occasion reporting requirements.

Obligation to Respond: Required to obtain or retain benefits. The statutory authority for this collection of information is contained in Sections 154(i), 301, 303, 308, 309 and 621 of the Communications Act of 1934, as amended.

Total Annual Burden: 1,264 hours.

Total Annual Cost: $132,020

Privacy Impact Assessment: No impact(s).

Nature and Extent of Confidentiality: There is no need for confidentiality with this collection of information.

Needs and Uses: Multichannel Video Programming Distributors (MVPDs) provide their programming over a closed system and, thus, may use all frequencies to do so. They must, however, prevent leakage of those signals from the system and guard against and minimize any harm to aeronautical communications should leak occur. Part of the regime for protecting aeronautical frequencies from interference and resolving interference is notification of the Commission of use of those frequencies and that proper frequency offsets and other precautions are taken. Form 321 is used for this purpose.

The Commission seeks to modify this submission to reflect that the Commission adopted a rule, 47 CFR 76.1804, which a new trigger for filing FCC Form 321 (see FCC 17-120, adopted on September 22, 2017). Under 47 CFR 76.1804, an MVPD shall notify the Commission before transmitting any digital signal with average power exceeding 10⁻⁵ watts across a 30 kHz bandwidth in a 2.5 millisecond time period, or for other signal types, any carrier of other signal component with an average power level across a 25 kHz bandwidth in any 160 microsecond time period equal to or greater than 10⁻⁴ watts at any point in the cable distribution system on any new frequency or frequencies in the aeronautical radio frequency bands (108-137 MHz, 225-400 MHz). The notification shall be made on FCC Form 321.

OMB Control Number: 3060-0419.

Title: Network Non-duplication Protection and Syndication Exclusivity: Sections 76.94, Notification; 76.95, Exceptions; 76.105, Notifications; 76.106, Exceptions; 76.107, Exclusivity Contracts; and 76.1609, Non-Duplication and Syndicated Exclusivity.

Form Number: N/A.

Type of Review: Revision of a currently approved collection.

Respondents: Business or other for-profit entities.

Number of Respondents: 5,980 respondents; 249,880 responses.

Estimated Time per Response: 0.5 to 2 hours.

Frequency of Response: On occasion reporting requirement; One-time reporting requirement; Third party disclosure requirement.

Obligation to Respond: Required to obtain or retain benefits. The statutory authority for this Information collection is contained in Section 4(i) of the Communications Act of 1934, as amended.

Total Annual Burden: 233,420 hours.

Total Annual Cost: None.

Privacy Impact Assessment: No impact(s).

Nature and Extent of Confidentiality: There is no need for confidentiality with this collection of information.

Needs and Uses: This information collection is being revised to receive approval for a minor revision to 47 CFR 76.105(b), which requires broadcasters entering into contracts that contain syndicated exclusivity protection to notify affected cable systems within 60 calendar days of the signing of such a contract. The revision to 47 CFR 76.105(b) removes outdated language about contracts entered into before August 18, 1988 (see FCC 17-120).

OMB Control Number: 3060-1045.

Title: Section 76.1610, Change of Operational Information; FCC Form 324, Operator, Mail Address, and Operational Status Changes.

Form Number: FCC Form 324.

Type of Review: Revision of a currently approved collection.

Respondents: Business or other for-profit entities; not-for-profit institutions.

Number of Respondents: 325 respondents; 325 responses.

Estimated Time per Response: 0.5 hours.

Frequency of Response: On occasion reporting requirement.

Obligation to Respond: Required to obtain or retain benefits. The statutory authority for this collection of information is contained in 154(i), 303, 308, 309 and 621 of the Communications Act of 1934, as amended.

Total Annual Burden: 163 hours.

Total Annual Cost: None.

Privacy Impact Assessment: No impact(s).

Nature and Extent of Confidentiality: There is no need for confidentiality with this collection of information.

Needs and Uses: The information collection requirements contained in 47 CFR 76.1610 require that operators shall inform the Commission on FCC Form 324 whenever there is a change of cable television system operator; change of legal name, change of the operator's mailing address or FCC Registration Number (FRN); or change in the operational status of a cable television system. Notification must be done within 30 days from the date the change occurs and must include the following information, as appropriate: (a) The legal name of the operator and whether the operator is an individual, private association, partnership, corporation, or government entity. See Section 76.5(cc). If the operator is a partnership, the legal name of the partner responsible for communications with the Commission shall be supplied; (b) The assumed name (if any) used for doing business in each community; (c) The physical address, including zip code, and email address, if applicable, to which all communications are to be directed; (d) The nature of the operational status change (e.g., operation terminated, merged with another system, inactive, deleted, etc.); (e) The names and FCC identifiers (e.g., CA 0001) of the system communities affected.

The Commission removed 47 CFR 76.1620(f) and (g) from its rules to remove duplication from that rule section (see FCC 17-120, adopted on September 22, 2017).

Federal Communications Commission.

Marlene Dortch,
Secretary, Office of the Secretary.

[FR Doc. 2019-25565 Filed 11-22-19; 8:45 am]

BILLING CODE 6712-01-P